DEPARTMENT OF ENERGY

Federal Energy Regulatory Commission

Combined Notice of Filings #1

Take notice that the Commission received the following electric corporate filings:

Docket Numbers: EC17-186-000.

Applicants: American Transmission Company LLC.

Description: Amendment to Application (Exhibit N) for Authorization Under Section 203 of the Federal Power Act of American Transmission Company LLC.

Filed Date: 10/11/17.

Accession Number: 20171011-5155.

Comments Due: 5 p.m. ET 11/1/17.

Docket Numbers: EC18-4-000.

Applicants: Cleco Power LLC, Attala Transmission LLC, Perryville Energy Partners, L.L.C., Entergy Louisiana, LLC, Entergy Mississippi, Inc.

Description: Joint Application for Section 203 Approval of Cleco Power LLC, et al.

Filed Date: 10/11/17.

Accession Number: 20171011-5205.

Comments Due: 5 p.m. ET 11/1/17.

Docket Numbers: EC18-5-000.

Applicants: RE Tranquillity LLC, RE Garland LLC, RE Garland A LLC, RE Mustang LLC, RE Mustang 3 LLC, RE Mustang 4 LLC.

Description: Application for Authorization under Section 203 of the Federal Power Act and Request for Waivers, Confidential Treatment, Expedited Action and Shortened Comment Period of RE Tranquillity LLC, et al.

Filed Date: 10/11/17.

Accession Number: 20171011-5206.

Comments Due: 5 p.m. ET 11/1/17.

Take notice that the Commission received the following electric rate filings:

Docket Numbers: ER13-1069-005; ER12-2381-002; ER10-1484-016.

Applicants: MP2 Energy LLC, MP2 Energy NE LLC, Shell Energy North America (US), L.P.

Description: Notice of Non-Material Change in Status of MP2 Energy LLC, et al.

Filed Date: 10/11/17.

Accession Number: 20171011-5212.

Comments Due: 5 p.m. ET 11/1/17.

Take notice that the Commission received the following qualifying facility filings:

Docket Numbers: QF17-1529-000.

Applicants: DOM Solar Lessor I, LP.

Description: Refund Report of DOM Solar Lessor I, LP [CMEEC—Bozrah].

Filed Date: 10/10/17.

Accession Number: 20171010-5401.

Comments Due: 5 p.m. ET 10/31/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 12, 2017.
Nathaniel J. Davis, Sr.,
Deputy Secretary.

[FR Doc. 2017-22526 Filed 10-17-17; 8:45 am]

BILLING CODE 6717-01-P